INTERNATIONAL TRADE COMMISSION

[Inv. No. 337-TA-543]

In the Matter of Certain Baseband Processor Chips and Chipsets, Transmitter and Receiver (Radio) Chips, Power Control Chips, and Products Containing Same, Including Cellular Telephone Handsets; Notice of Commission Determination Not To Review an Initial Determination Granting-In-Part Various Motions To Intervene and Extending the Target Date for Completion of the Investigation

AGENCY: U.S. International Trade Commission.

ACTION: Notice.

SUMMARY: Notice is hereby given that the U.S. International Trade Commission has determined not to review the presiding administrative law judge's (“ALJ's”) initial determination (“ID”) (Order No. 27) granting-in-part various motions to intervene on the issues of remedy and bonding and extending the target date for completion of the above-captioned investigation from September 21, 2006, to December 21, 2006.

FOR FURTHER INFORMATION: Timothy P. Monaghan, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On June 21, 2005, the Commission instituted an investigation under section 337 of the Tariff Act of 1930, 19 U.S.C. 1337, based on a complaint filed by Broadcom Corporation of Irvine, California (“Broadcom”), alleging a violation of section 337 in the importation, sale for importation, and sale within the United States after importation of certain baseband processor chips and chipsets, transmitter and receiver (radio) chips, power control chips, and products containing same, including cellular telephone handsets by reason of infringement of certain claims of U.S. Patent Nos. 6,374,311 (“the ‘311 patent”), 6,714,983 (“the ‘983 patent”), 5,682,379 (“the ‘379 patent”), 6,359,872 (“the ‘872 patent”), and 6,583,675 (“the ‘675 patent”). The complainant named Qualcomm Incorporated (“Qualcomm”) of San Diego, California as the only respondent.

On December 23, 2005, Broadcom filed a motion for summary determination that Broadcom satisfied the economic prong of the domestic industry requirement under 19 U.S.C. 1337(a)(3)(C) with respect to the ‘311, ‘983, ‘379, ‘872, and ‘675 patents. The Commission investigative attorney (“IA”) supported the motion. Respondent Qualcomm took no position with regard to the motion. On January 24, 2006, the ALJ issued an ID (Order No. 19) granting the motion for summary determination. No petitions for review of the ID were filed. On February 16, 2006, the Commission determined not to review Order No. 19. On January 31, 2006, Cellco Partnership d/b/a Verizon Wireless (“Verizon”) filed a motion to intervene in the investigation. On February 2, 2006, LG Electronics Mobilecomm U.S.A., Inc. (“LG”) filed a motion to intervene. On February 3, 2006, Motorola, Inc. (“Motorola”) and Kyocera Wireless Corp. (“Kyocera”) each filed motions to intervene. On February 8, 2006, Sprint Nextel Corporation (“Sprint”) filed a motion to intervene. On February 10, 2006, Samsung Electronics Co., Ltd. (“Samsung”) filed a motion to intervene for the limited purpose of presenting evidence relating to remedy.

On February 21, 2006, the ALJ issued an ID (Order No. 27) granting the motions of Verizon, LG, Kyocera, Motorola, Sprint, and Samsung to intervene for the limited purpose of presenting evidence related to remedy and bonding. The ALJ also extended the target date for completion of the investigation from September 21, 2006, to December 21, 2006. No party filed a petition for review of Order No. 27.

The Commission has determined not to review Order No. 27.

The authority for the Commission's determination is contained in section 337 of the Tariff Act of 1930, as amended (19 U.S.C. 1337), and in section 210.42 of the Commission's Rules of Practice and Procedure (19 CFR 210.42).

By order of the Commission.
Issued: March 16, 2006.
Marilyn R. Abbott,
Secretary to the Commission.

[FR Doc. E6-4125 Filed 3-21-06; 8:45 am]

BILLING CODE 7020-02-P